DEPARTMENT OF COMMERCE

International Trade Administration

[A-549-817]

Certain Hot-Rolled Carbon Steel Flat Products from Thailand: Notice of Extension of Time Limit for the Final Results of the Antidumping Duty Administrative Review

AGENCY: Import Administration, International Trade Administration, Department of Commerce.

EFFECTIVE DATE: March 7, 2008.

FOR FURTHER INFORMATION CONTACT: Dena Crossland or Stephen Bailey, AD/CVD Operations, Office 7, Import Administration, International Trade Administration, U.S. Department of Commerce, 14th Street and Constitution Avenue, NW, Washington, DC 20230; telephone: (202) 482-3362 or (202) 482-0193, respectively.

SUPPLEMENTARY INFORMATION:

Background

On December 7, 2007, the Department of Commerce (“the Department”) published the preliminary results of the administrative review of the antidumping duty order on certain hot-rolled carbon steel flat products (“hot-rolled steel”) from Thailand, covering the period November 1, 2005, through October 31, 2006. See Certain Hot-Rolled Carbon Steel Flat Products from Thailand: Preliminary Results of Antidumping Duty Administrative Review and Partial Rescission, 72 FR 69187 (December 7, 2007) (“Preliminary Results”). The final results of this review are currently due no later than April 5, 2008.

Extension of Time Limit for Final Results of Review

Pursuant to section 751(a)(3)(A) of the Tariff Act of 1930, as amended (“the Act”), the Department shall make a final determination in an administrative review of an antidumping duty order within 120 days after the date on which the preliminary results are published. However, section 751(a)(3)(A) of the Act allows the Department to extend the 120-day period to 180 days after the preliminary results, if it determines it is not practicable to complete the review within the foregoing time period.

The Department finds that it is not practicable to complete the final results of the administrative review of hot-rolled steel from Thailand within the 120-day period due to the complexity of two issues which were briefed by petitioner, respondent, and domestic interested party. First, the Department applied facts otherwise available to G Steel Public Company Limited (“G Steel”) in the Preliminary Results because we were unable to verify G Steel's yield strength data in both the home market and U.S. market. Second, in the Preliminary Results, we determined that G Steel and Nakornthai Strip Mill Public Company Limited (“NSM”), another respondent in this administrative review, became affiliated at the end of the POR, but that the requirements had not been met to collapse the two companies. We need additional time to analyze parties' comments regarding both of these issues.

Therefore, in accordance with section 751(a)(3)(A) of the Act, the Department is extending the time period for completion of the final results of this review by 60 days to 180 days after the date on which the preliminary results were published. Accordingly, the final results are now due no later than June 4, 2008.

This notice is published in accordance with sections 751(a)(3)(A) and 777(i) of the Act.

Dated: March 3, 2008.
Gary Taverman,
Acting Deputy Assistant Secretary for Import Administration.

[FR Doc. E8-4547 Filed 3-6-08; 8:45 am]

BILLING CODE 3510-DS-S